DEPARTMENT OF THE INTERIOR

National Park Service

[NPS-WASO-IRMD-NISC-NPS0037073; PPWOCOMM00; PPMPSPD1Y.YM0000; OMB Control Number 1024-NEW]

Agency Information Collection Activities; National Park Service Virtual Visitor Study

AGENCY: National Park Service, Interior.

ACTION: Notice of information collection; request for comment.

SUMMARY: In accordance with the Paperwork Reduction Act (PRA) of 1995 we, the National Park Service (NPS) are proposing a new information collection.

DATES: Interested persons are invited to submit comments on or before June 24, 2024.

ADDRESSES: Written comments and suggestions on the information collection requirements should be submitted by the date specified above in DATES to http://www.reginfo.gov/public/do/PRAMain. Find this particular information collection by selecting “Currently under Review—Open for Public Comments” or by using the search function. Please provide a copy of your comments to the NPS Information Collection Clearance Officer (ADIR-ICCO), 13461 Sunrise Valley Drive, Mail Stop 244, Reston, VA 20192, VA 20171 (mail); or phadrea_ponds@nps.gov (email). Please reference OMB Control Number 1024-NEW (Virtual Visitor) in the subject line of your comments.

FOR FURTHER INFORMATION CONTACT: To request additional information about this ICR, contact Todd Edgar, Solutions Architect, NPS Information Resources Management Directorate at todd_edgar@nps.gov (email) or 202-306-3909 (telephone). Please reference OMB Control Number 1024-NEW (Virtual Visitor) in the subject line of your comments. Individuals in the United States who are deaf, deafblind, hard of hearing, or have a speech disability may dial 711 (TTY, TDD, or TeleBraille) to access telecommunications relay services. Individuals outside the United States should use the relay services offered within their country to make international calls to the point of contact in the United States. You may also view the ICR at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on March 10, 2023 (88 FR 15072). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected.

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Under the authority of the Organic Act of 1916, the National Park Service (NPS) is responsible for protecting resources and providing for the enjoyment of current and future generations. Of increasing importance to the NPS, is the experience of virtual visitors to NPS virtual resources. This collection will be administered as an online survey of users who visit NPS digital assets, including NPS.gov, park-managed social media accounts, and the NPS Mobile App. The study's objectives are to describe the NPS virtual visitor population, understand their motivations, and determine which platforms are most effective. For one year, across four seasonal waves, this study will collect data through an online survey offered to NPS digital platform visitors.

The 21st Century Integrated Digital Experience Act, (44 U.S.C. 3501), was signed into law to improve the digital experience for government customers and reinforce existing requirements for federal public websites. The objectives NPS Virtual Visitor Study are to describe the NPS virtual visitor population, understand their motivations, determine which NPS digital assets and platforms are most effective, and identify where user needs are not being met to target resources for improvement. The results from this study will highlight the strengths and gaps in NPS digital offerings. Specifically, the study will inform a stronger virtual visitor monitoring program. A virtual visitor monitoring program will serve to measure the public's engagement and satisfaction with NPS digital assets over time.

Title of Collection: National Park Service Virtual Visitor Study.

OMB Control Number: 1024-NEW.

Form Number: None.

Type of Review: New.

Respondents/Affected Public: General Public.

Total Estimated Number of Annual Respondents: 21,516. (Full survey (n=8,383) and non-response survey (n=13,234)).

Estimated Completion Time per Response: Varies 7 minutes for full survey and less than 30 seconds for partial non-response survey.

Total Estimated Number of Annual Burden Hours: 1,087 Hrs.

Respondent's Obligation: Voluntary.

Frequency of Collection: Once.

Total Estimated Annual Nonhour Burden Cost: None.

An agency may not conduct or sponsor and a person is not required to respond to a collection of information unless it displays a currently valid OMB control number.

The authority for this action is the Paperwork Reduction Act of 1995 (44 U.S.C. 3501 et seq.).

Phadrea Ponds,
Information Collection Clearance Officer, National Park Service.

[FR Doc. 2024-11324 Filed 5-22-24; 8:45 am]

BILLING CODE 4312-52-P